DEPARTMENT OF COMMERCE

International Trade Administration

[A-485-803]

Notice of Extension of Final Results of the 2004-2005 Antidumping Duty Administrative Review of Certain Cut-to-Length Carbon Steel Plate From Romania

AGENCY: Import Administration, International Trade Administration, Commerce.

DATES: Effective Date: January 9, 2007.

FOR FURTHER INFORMATION CONTACT: Dena Crossland or John Drury, AD/CVD Operations, Office 7, Import Administration, International Trade Administration, U.S. Department of Commerce, 14th Street and Constitution Avenue, NW., Washington, DC 20230; telephone: (202) 482-3362 or (202) 482-0195, respectively.

SUPPLEMENTARY INFORMATION:

Background

On September 11, 2006, the Department of Commerce (“the Department”) published the preliminary results of this administrative review of certain cut-to-length carbon steel plate (“cut-to-length plate”) from Romania. See Certain Cut-to-Length Carbon Steel Plate from Romania: Preliminary Results of the Antidumping Duty Administrative Review and Partial Rescission, 71 FR 53377 (September 11, 2006) (“Preliminary Results”). In the Preliminary Results we stated that we would make our final determination for the antidumping duty review no later than 120 days after the date of publication of the preliminary results (i.e., January 9, 2007).

Extension of Time Limit for Final Results

The Department is extending the time limit for the final results of the administrative review of the antidumping duty order on cut-to-length plate from Romania. This review covers the period August 1, 2004, through July 31, 2005.

Section 751(a)(3)(A) of the Tariff Act of 1930, as amended (“the Act”), states that if it is not practicable to complete the review within the time specified, the administering authority may extend the 120-day period, following the date of publication of the preliminary results, to issue its final results by an additional 60 days. Due to the complexity of issues raised in this review segment, including the selection of date of sale for respondent's U.S. sales and the calculation of inland freight to port expenses, the completion of the final results within the 120-day period is not practicable.

Therefore, in accordance with section 751(a)(3)(A) of the Act, the Department is extending the time period for issuing the final results of review by an additional 30 days until no later than February 8, 2007.

Dated: December 28, 2006.
Stephen J. Claeys,
Deputy Assistant Secretary, for Import Administration.

[FR Doc. E7-55 Filed 1-8-07; 8:45 am]

BILLING CODE 3510-DS-P